DEPARTMENT OF LABOR

Employment and Training Administration

[TA-W-71,608]

Xilinx, Inc., Including On-Site Leased Workers of TEKsystems, Albuquerque, NM; Notice of Revised Determination on Reconsideration

On January 25, 2010, the Department issued a Notice of Affirmative Determination Regarding Application for Reconsideration applicable to workers and former workers of Xilinx, Inc., Albuquerque, New Mexico (the subject firm). The Department's Notice was published in the Federal Register on February 16, 2010 (75 FR 7031). The workers are engaged in employment related to the supply of internally used engineering services.

In the request for reconsideration, workers alleged that the subject firm has shifted abroad the supply of services like and directly competitive with the internal-use engineering services supplied by the Albuquerque, New Mexico facility and provided documentation in support of the allegation. The new documentation included a February 29, 2008, advertisement for a product engineer/senior product engineer for one offshore location of Xilinx, Inc.; and a job advertisement dated May 19, 2009, for integrated circuit test engineers and test equipment engineers for a Product and Test Engineering Department of a foreign Xilinx facility.

During the reconsideration investigation, the Department carefully reviewed the new information and previously submitted information, and sought clarification from the subject firm.

Based on the information obtained during the reconsideration investigation, the Department determines that a significant proportion or number of workers at the subject firm was totally or partially separated, or threatened with such separation; that the subject firm shifted to a foreign country the supply of services like or directly competitive with the engineering services supplied by workers at the subject firm; and that the subject worker group includes on-site leased workers of TEKsystems.

Conclusion

After careful review of the additional facts obtained on reconsideration, I determine that workers of Xilinx, Inc., including on-site leased workers of TEKsystems, Albuquerque, New Mexico, who are engaged in employment related to the supply of internal-use engineering services, meet the worker group certification criteria under Section 222(a) of the Act, 19 U.S.C. 2272(a). In accordance with Section 223 of the Act, 19 U.S.C. 2273, I make the following certification:

All workers of Xilinx, Inc., including on-site leased workers of TEKsystems, Albuquerque, New Mexico, who became totally or partially separated from employment on or after July 7, 2008, through two years from the date of this certification, and all workers in the group threatened with total or partial separation from employment on date of certification through two years from the date of certification, are eligible to apply for adjustment assistance under Chapter 2 of Title II of the Trade Act of 1974, as amended.

Signed in Washington, DC, this 7th day of October 2010.
Del Min Amy Chen,
Certifying Officer, Office of Trade Adjustment Assistance.

[FR Doc. 2010-26771 Filed 10-22-10; 8:45 am]

BILLING CODE 4510-FN-P